DEPARTMENT OF JUSTICE

Notice of Lodging of Consent Decree Pursuant to the Comprehensive Environmental Response, Compensation, and Liability Act

In accordance with Departmental policy, 28 CFR 50.7, notice is hereby given that a proposed partial consent decree in United States v. The Ed Krewatch Partnership, Antonio v. Nero, Gardner Asphalt Corporation, Emulsion Products Company, and Raymond T. Hyer, Jr., Civil Action No. 01:659, was lodged with the United States Court for the District of Delaware on September 28, 2001.

The proposed partial consent decree pertains to the Krewatch Farm Superfund Site (“Site”), located near Seaford, Delaware. The United States has sued a number of defendants pursuant to Section 107 of the Comprehensive Environmental Response, Compensation, and Liability Act (“CERCLA”), 42 U.S.C. 9607, to recover past response costs incurred at the Site. Two defendants, Antonio V. Nero and The Ed Krewatch Partnership (“Settling Defendants”), have agreed to a settlement memorialized in the partial consent decree. In the settlement, defendant Antonio V. Nero agrees to pay $10,000 for reimbursement of costs expended in the cleanup by the Environmental Protection Agency. Defendant The Ed Krewatch Partnership agrees to pay $152,000 in cash and 40% of the proceeds of the sale of the farm on which the Site is located. In addition, The Ed Krewatch Partnership agrees to reimburse $22,667.25 to the state environmental agency Delaware Department of Natural Resources and Environmental Control (“DNREC”).

The Department of Justice will receive, for a period of thirty (30) days from the date of this publication, comments relating to the proposed consent decree. Comments should be addressed to the Assistant Attorney General for the Environment and Natural Resources Division, Department of Justice, Washington, DC 20530, and should refer to United States v. The Ed Krewatch Partnership, et al., DOJ Ref. # 90-11-3-07224.

The proposed consent decree may be examined at the office of the United States Attorney, District of Delaware, 1201 N. Market Street, Wilmington, DE and at the Region III Office of the Environmental Protection Agency, 1650 Arch St., Philadelphia, PA 19103. A copy of the proposed consent decree may be obtained by mail from the Consent Decree Library, P.O. Box 7611, U.S. Department of Justice, Washington, DC 20044-7611. In requesting a copy please refer to the referenced case and enclose a check in the amount of $9.75 ($.25 per page reproduction cost), payable to the Consent Decree Library.

Robert D. Brook,
Assistant Section Chief, Environmental Enforcement Section, Environmental and Natural Resources Division.

[FR Doc. 02-95 Filed 1-2-02; 8:45 am]

BILLING CODE 4410-15-M